DEPARTMENT OF THE INTERIOR

National Park Service

Negotiated Rulemaking Advisory Committee for Dog Management at Golden Gate National Recreation Area

AGENCY: National Park Service, Interior.

ACTION: Notice of Intent to Establish a Negotiated Rulemaking Advisory Committee.

SUMMARY: The Secretary of the Interior is giving notice of her intent to establish the Negotiated Rulemaking Advisory Committee for Dog Management at Golden Gate National Recreation Area (GGNR) to negotiate and develop a special regulation (proposed rule) for dog management at Golden Gate National Recreation Area.

FOR FURTHER INFORMATION CONTACT: Brian O'Neill, Superintendent, Golden Gate National Recreation Area, Fort Mason, Building 201, San Francisco, California, 94123; 415-561-4720.

DATES: Interested persons are invited to comment on the proposal to create this Committee. In addition, any persons who believe that they will be affected significantly by the special regulation and who believe their interests will not be represented adequately by the persons identified in this Notice are invited to apply for or nominate another person for membership on the Committee. Each application must contain the information described in he “Application for Membership” section below. Applications or nominations for membership on the Committee must be received by close of business on July 28, 2005.

ADDRESSES: Comments and applications for membership must be submitted to Brian O'Neill, Superintendent, Golden Gate National Recreation Area, Fort Mason, Building 201, San Francisco, California 94123 (Attn: Negotiated Rulemaking Committee). As an alternative, comments and applications may be submitted by electronic mail to GOGA_Reg_Neg@nps.gov. Please Put “Negotiated Rulemaking Committee” in the subject line. Comments and applications received will be available for inspection at the address listed above from 8:30 a.m., to 4:30 p.m., p.s.t., Monday through Friday.

SUPPLEMENTARY INFORMATION: The establishment of this committee is in the public interest and supports the National Park Service (NPS) in performing its duties and responsibilities under the NPS Organic Act, 16 U.S.C. 1 et. seq., the Endangered species Act, 16 U.S.C. 1531 et seq.; and the Golden Gate National Recreation Area Act, 16 U.S.C. 460bb et seq.

The Committee will negotiate to reach consensus on concepts and language to use as the basis for a special regulation for dog management at GGNRA. The NPS's existing regulation, codified at 36 CFR 2.15, has not been effective in resolving longstanding, controversial resource management and public use conflicts and safety issues at Golden Gate National Recreation Area. With the participation of knowledgeable and affected parties, NPS expects to develop practical approach to resolve conflicts and issues which include: the protection of cultural and natural resources; competing visitor uses; the safety of visitors and staff; and the public desire to walk their dogs off-leash in certain areas of GGNRA.

Scope of the Proposed Rule. Within the constraints of NPS authorities, policies, planning guidelines, and information on park setting, natural and cultural resources, public safety, and context of the unique urban environment within which GGNRA fits, the Committee will address key issues during the negotiations, including, but not limited to: areas of the park that could be designated for off-leash dog walking areas; periods of use and times of day and year during which off-leash areas may be used; use limits and other conditions that would govern off-leash use within GGNRA, including the use and limits of professional dog walking. The following areas of the park, in which pets have never been allowed (i.e., there is not history of dog walking use and/or it has not been an issue) or have been restricted due to sensitivity of resources, are precluded from consideration by the Committee for off leash uses: Alcatraz; China Beach; Crissy Beach tidal marsh and wildlife protection area as designated by the 1996 Crissy Field Plan Environment Assessment; East Fort Baker Pier; areas closed to visitor and pet access at Fort Funston; Kirby Cove; Muir Woods; Phleger Estate; Fort Point historic structure; the beach at Stinson Beach; Tennessee Valley; Muir Beach Lagoon; Rodeo Lagoon; Rodeo Lake; Redwood Creek; all trails in undeveloped areas; all areas closed to off-trail travel; and all freshwater bodies in the park.

On-leash dog walking could be considered in areas with threatened and endangered species only if it is demonstrated that adverse effects or impacts are minimal and could be mitigated. New NPS lands that come under the management of GGNRA in the future will be evaluated for appropriate recreational uses, including dog walking, and any approved dog walking use will be consistent with the new special regulation for dogwalking in GGNRA.

The legal sideboards within which recommendations on dog management in GGNRA must be formed include, but may not be limited to the following:

• GGNRA enabling legislation (Public Law 92-589)

• The NPS Organic Act

• The Administrative Procedure Act

• The Endangered Species Act

• The National Environmental Policy Act (NEPA)

• The National Historic Preservation Act

• Relevant case law

• Applicable Federal regulations

• NPS Management Policies 2001

• Existing park management plans

List of Interests Significantly Affected. The NPS has identified a number of interests who are likely to be affected by the rule. Those parties are residents of San Francisco, Marin, and San Meteo Counties; conservation and environmental organizations; off-leash dog walking organizations; equestrian organizations; organizations advocating for parents and children; visitor user groups; and Federal, State, and regional land use management and wildlife management agencies. Other parties who believe they are likely to be affected significantly by the rule may apply for membership on the Committee pursuant to the “Application for Membership” section below.

Proposed Agenda and Schedule for Publication of Proposed Rule. Members of the Committee, with the assistance of a neutral facilitator, will determine the agenda for the Committee's work, which will include interactions with the concurrent NEPA process for dog management in GGNRA. Although the negotiated rulemaking and NEPA processes are complex, barring unforeseen circumstances, we anticipate publishing a proposed rule in the Federal Register before June 2007.

Administrative Support. To the extent authorized by law, the NPS will fund the costs of the Committee, keep a record of all Committee meetings, and provide administrative support and technical assistance for the expertise in resource management and operations to facilitate the Committee's work.

Committee Membership. In accordance with the Negotiated Rulemaking Act, membership is limited to 25, with each member having an alternate. The following membership is proposed for the Negotiated Rulemaking Advisory Committee for Dog Management Regulation at Golden Gate National Recreation Area:

1. The interests of the Department of the Interior will be represented by:

National Park Service—Christine Powell

Alternate—Howard Levitt

2. The interests of organizations and visitors advocating off-leash use will be represented by:

a. Crissy Field Dog Group—Martha Walters

Alternate—Chris Griffith

b. Fort Funston Dog Walkers—Linda McKay

Alternate—Karin Hu

c. Ocean Beach Dog Owners—John Keating

Alternate—Suzanne Valente

d. Pacifica Dog Walkers—Jeri Flinn

Alternate—Anne Farrow

e. Presidio Dog Walkers—Gary Fergus

Alternate—Carol Copsey

f. San Francisco Dog Owners Group—Keith McAllister

Alternate—Carol Arnold

3. The interests of commercial dog walking businesses will be represented by:

ProDog—Joe Hague

Alternate—Donna Sproull

4. The interests of environmental organizations will be represented by:

a. California Native Plant Society—Mark Heath

Alternate—Jake Sigg

b. Center for Biological Diversity—Brent Plater

Alternate—Jeff Miller

c. Golden Gate Audubon Society—Arthur Feinstein

Alternate—Elizabeth Murdock

d. Marine Mammal Center—Erin Brodie

Alternate—Joanne Mohr (Farallones Marine Sanctuary Association)

e. Sierra Club (Local Chapter)—Norman LaForce

Alternate—Gordon Bennett

f. San Francisco League of Conservation Voters—Stephen Krefting

Alternate—Michelle Jesperson

5. The interests of visitors user groups will be represented by:

a. Coleman Advocates for Youth—David Robinson

Alternate—Marybeth Wallace

b. Equestrian Groups—Judy Teichman (Marinwatch)

Alternate—Alice Caldwell-Steele (Miwok Valley Association)

c. Senior Action Network—Bruce Livingston

Alternate—Bob Planthold

d. Marin Humane Society—Cindy Machado

Alternate—Steve Hill

e. San Francisco SPCA—Daniel Crain

Alternate—Christine Rosenblatt

6. The interests of local governments will be represented by:

a. City of San Francisco—Dan McKenna

Alternate—Lemar Morrison

b. Former member of GGNRA Citizens Advisory Commission—Paul Jones

Alternate—Betsey Cutler

c. Presidio Trust—Joanne Marchetta

Alternate—Al Rosen

Application for Membership. Persons who believe that they will be affected significantly by proposals to revise dog management at Golden Gate National Recreation Area and who believe that such interests will not be represented adequately by any person identified in the “Committee Membership” section above may apply for or nominate another person for membership on the Negotiated Rulemaking Advisory Committee for Dog Management at Golden Gate National Recreation Area. In order to be considered, each application or nomination must include:

1. The name of the applicant or nominee and a description of the interest(s) such person is to represent;

2. Evidence that the applicant or nominee is authorized to represent parties related to the interest(s) the person is proposed to represent;

3. A written statement that the applicant or nominee will actively participate in good faith in the development of the proposed rule; and

4. The reasons that the proposed members of the committee identified above do not represent the interests of the person submitting the application or nomination.

To be considered, the application must be complete and received by the close of business on July 28, 2005 at the location indicated in the “Address” section above. Full consideration will be given to all applications and nominations timely submitted. The decision whether or not to add a person to the Negotiated Rulemaking Advisory Committee for Dog Management at Golden Gate National Recreation Area will be based on a determination by the NPS whether an interest of that person will be affected significantly by the proposed rule; whether an interest of that person will be affected significantly by the proposed rule; whether that interest is already represented adequately on the Committee, and if not represented adequately, whether the applicant or nominee would represent it adequately.

Certification: I hereby certify that the administrative establishment of the Negotiated Rulemaking Advisory Committee for Dog Management at Golden Gate National Recreation Area is necessary and in the public interest in connection with the performance of duties imposed on the Department of the Interior by the Act of August 25, 1916, 16 U.S.C. 1 et seq., and other statues relating to the administration of the National Park System.

Dated: June 17, 2005.
Gale A. Norton,
Secretary of the Interior.

[FR Doc. 05-12751 Filed 6-27-05; 8:45 am]

BILLING CODE 4310-70-M